SMALL BUSINESS ADMINISTRATION

[Declaration of Disaster #3588]

State of Louisiana; Amendment #1

In accordance with a notice received from the Department of Homeland Security—Federal Emergency Management Agency, effective June 24, 2004, the above numbered declaration is hereby amended to include Jefferson Davis Parish as a disaster area due to damages caused by severe storms and flooding occurring on May 12 through May 19, 2004.

In addition, applications for economic injury loans from small businesses located in the contiguous parishes of Beauregard, Calcasieu, and Cameron in the State of Louisiana may be filed until the specified date at the previously designated location. All other counties contiguous to the above named primary parishes have been previously declared.

All other information remains the same, i.e., the deadline for filing applications for physical damage is August 9, 2004, and for economic injury the deadline is March 8, 2005.

(Catalog of Federal Domestic Assistance Program Nos. 59002 and 59008)
Dated: June 24, 2004.
Herbert L. Mitchell,
Associate Administrator for Disaster Assistance.

[FR Doc. 04-15165 Filed 7-2-04; 8:45 am]

BILLING CODE 8025-01-P